DEPARTMENT OF HEALTH AND HUMAN SERVICES

Food and Drug Administration

[Docket No. 2000D-1598]

Agency Information Collection Activities; Submission for Office of Management and Budget Review; Comment Request; Suggested Documentation for Substantiating Whether Foods Have or Have Not Been Developed Using Bioengineering; Withdrawal

AGENCY: Food and Drug Administration, HHS.

ACTION: Withdrawal of notice.

SUMMARY: This document withdraws a Food and Drug Administration (FDA) notice that published in the Federal Register of October 31, 2003 (68 FR 62086).

DATES: This notice is withdrawn on November 21, 2003.

FOR FURTHER INFORMATION CONTACT: Catalina Ferre-Hockensmith, Center for Food Safety and Applied Nutrition (HFS-820), Food and Drug Administration, 5100 Paint Branch Pkwy., College Park, MD 20740, 301-436-2371.

SUPPLEMENTARY INFORMATION: FDA published a notice in the Federal Register of October 31, 2003, informing interested parties that the proposed collection of information entitled “Suggested Documentation for Substantiating Whether Foods Have or Have Not Been Developed Using Bioengineering” had been submitted to the Office of Management and Budget for review and clearance under the Paperwork Reduction Act of 1995. However, this request for comments was issued prematurely. Thus, FDA is withdrawing the proposed collection of information at this time. FDA will reissue the request for comments when appropriate.

Dated: November 14, 2003.
Jeffrey Shuren,
Assistant Commissioner for Policy.

[FR Doc. 03-29074 Filed 11-20-03; 8:45 am]

BILLING CODE 4160-01-S